COMMITTEE FOR THE IMPLEMENTATION OF TEXTILE AGREEMENTS

Determination under the Textile and Apparel Commercial Availability Provision of the Dominican Republic-Central America-United States Free Trade Agreement (CAFTA-DR Agreement)

July 18, 2008.

AGENCY: The Committee for the Implementation of Textile Agreements.

ACTION: Determination to add a product in unrestricted quantities to Annex 3.25 of the CAFTA-DR Agreement.

EFFECTIVE DATE: July 23, 2008.

SUMMARY: The Committee for the Implementation of Textile Agreements (CITA) has determined that certain corduroy fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf. Reference number: 79.2008.06.18.Fabric.GovofDominican Republic.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On June 18, 2008, the Chairman of CITA received a commercial availability request from the Government of the Dominican Republic for certain corduroy fabrics, of the specifications detailed below. On June 19, 2008, CITA notified interested parties of, and posted on its website, the accepted request. In its notification, CITA advised that interested entities objecting to the request may provide a response, no later than July 2, 2008, advising CITA of its objection to the request and its ability to supply the subject product by providing an offer to supply the subject product as described in the request. CITA also notified interested parties that that any rebuttals to responses must be submitted to CITA by July 9, 2008.

No interested entity filed a response advising of its objection to the request and its ability to supply the subject product.

In accordance with section 203(o)(4)(C) of the CAFTA-DR Act, and its procedures, as no interested entity submitted a response objecting to the request or expressing an ability to supply the subject product, CITA has determined to add the specified fabrics to the list in Annex 3.25 of the CAFTA-DR Agreement.

The subject fabric has been added to the list in Annex 3.25 of the CAFTA-DR Agreement in unrestricted quantities. A revised list has been published on-line.

Specifications:
Certain Corduroy Fabrics
HTS: 5801.22.90
Fiber Content: 100% cotton
Average Yarn Number:
Metric: 20/1 - 21/1; 20/1 - 21/1;
English: 12/1; 12/1;
Thread Count:
Metric: 18-19 warp ends/ 57-60 filling picks per cm.
English: 47-49 warp ends/144-152 filling picks per inch
Weave: Corduroy 3.1 wales/cm. (8 wales per inch).
Weight:
Metric: 393-413 gm/sq. m.
English: 11.6-12.2 oz/sq. yd.
Width:
Metric: 139-146 cm
English: 55-57 inches
Finish: Piece dyed

R. Matthew Priest,
Chairman, Committee for the Implementation of Textile Agreements.

[FR Doc. E8-16888 Filed 7-22-08; 8:45 am]

BILLING CODE 3510-DS-S